FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 011960-005.

Title: The New World Alliance Agreement.

Parties: American President Lines, Ltd.; APL Co. Pte, Ltd.; Hyundai Merchant Marine Co., Ltd.; and Mitsui O.S.K. Lines, Ltd. (“MOL”).

Filing Party: David F. Smith, Esq., Sher & Blackwell LLP, 1850 M Street, NW., Suite 900, Washington, DC 20036.

Synopsis: The amendment would authorize Hyundai to sub-charter space under the agreement to Hanjin Shipping Company, Ltd. The parties requested expedited review.

Agreement No.: 012057-004.

Title: CMA CGM/Maersk Line Space Charter, Sailing and Cooperative Working Agreement Asia to USEC and PNW-Suez/PNW & Panama Loops.

Parties: A.P. Moller-Maersk A/S and CMA CGM S.A.

Filing Party: Wayne R. Rohde, Esq., Sher and Blackwell LLP, 1850 M Street, NW., Suite 900, Washington, DC 20036.

Synopsis: The amendment deletes Hyundai Merchant Marine Co., Ltd. as a party to the agreement, suspends the operation of a service loop, authorizes the parties to operate smaller vessels on the remaining service loop, and makes corresponding changes to the vessel provisions and space allocations under the agreement.

Agreement No.: 012078.

Title: CSCL/ELJSA Vessel Sharing Agreement—Asia and Pacific North West Coast Service.

Parties: China Shipping Container Lines Co., Ltd.; China Shipping Container Lines (Hong Kong) Co., Ltd.; and the Evergreen Line Joint Service Agreement, including Evergreen Marine Corp. (Taiwan) Ltd., Evergreen Marine (UK) Ltd., Italia Marittima S.p.A., Evergreen Marine (Hong Kong) Ltd., and Evergreen Marine (Singapore) Pte Ltd.

Filing Party: Tara L. Leiter, Esq., Blank Rome LLP, Watergate; 600 New Hampshire Ave., NW., Washington, DC 20037.

Synopsis: The agreement authorizes the parties to share vessel space in the trade between U.S. Pacific Northwest ports and ports in Asia. The parties requested expedited review.

By Order of the Federal Maritime Commission.
Dated: September 16, 2009.
Tanga S. FitzGibbon,
Assistant Secretary.

[FR Doc. E9-22662 Filed 9-18-09; 8:45 am]

BILLING CODE 6730-01-P